DEPARTMENT OF ENERGY

Federal Energy Regulatory Commission

[Docket No. EL02-22-000]

Allegheny Energy Supply Company, LLC; Notice of Filing

November 15, 2001.

Take notice that on November 9, 2001, Allegheny Energy Supply Company, LLC (Petitioner), filed with the Federal Energy Regulatory Commission a petition for declaratory order disclaiming jurisdiction and request for expedited consideration on behalf of PSEG Resources Inc. and Banc One Capital Corporation, certain to-be-formed wholly-owned subsidiaries thereof which will act as the Owner Participants, Owner Lessors and a to-be identified bank or trust company which will act as the Owner Trustee. Petitioner requests expedited action to permit the transaction to close on or soon after November 30, 2001.

Petitioner is seeking a disclaimer of jurisdiction in connection with a lease financing involving its interest in the Hatfield's Ferry Power Station.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before November 28, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29075 Filed 11-20-01; 8:45 am]

BILLING CODE 6717-01-P